DEPARTMENT OF HOMELAND SECURITY

Coast Guard

33 CFR Part 117

[Docket No. USCG-2015-0764]

Drawbridge Operation Regulation; Hutchinson River, Bronx, NY

AGENCY: Coast Guard, DHS.

ACTION: Notice of deviation from drawbridge regulation.

SUMMARY: The Coast Guard has issued a temporary deviation from the operating schedule that governs the Pelham Bay Bridge, across the Hutchinson River, mile 0.5, at Bronx, New York. This deviation is necessary to replace bridge timbers, miter rails, and concrete work. This deviation allows the bridge to remain in the closed position for eighteen days.

DATES: This deviation is effective from 11 p.m. on September 11, 2015 to 11 p.m. on October 4, 2015.

ADDRESSES: The docket for this deviation, [USCG-2015-0764] is available at http://www.regulations.gov. Type the docket number in the “SEARCH” box and click “SEARCH.” Click on Open Docket Folder on the line associated with this deviation. You may also visit the Docket Management Facility in Room W12-140, on the ground floor of the Department of Transportation West Building, 1200 New Jersey Avenue SE., Washington, DC 20590, between 9 a.m. and 5 p.m., Monday through Friday, except Federal holidays.

FOR FURTHER INFORMATION CONTACT: If you have questions on this temporary deviation, contact Ms. Judy K. Leung-Yee, Project Officer, First Coast Guard District, telephone (212) 514-4330, email judy.k.leung-yee@uscg.mil. If you have questions on viewing the docket, call Ms. Cheryl Collins, Program Manager, Docket Operations, telephone (202) 366-9826.

SUPPLEMENTARY INFORMATION:

The Pelham Bay Bridge, mile 0.5, across Hutchinson River has a vertical clearance in the closed position of 8 feet at mean high water and 15 feet at mean low water. The existing bridge operating regulations are found at 33 CFR 117.793(a).

The waterway has commercial oil barge traffic of various sizes.

Amtrak requested this temporary deviation from the normal operating schedule to facilitate essential maintenance repairs.

Under this temporary deviation, the Pelham Bay Bridge will operate according to the schedule below:

a. From 11 p.m. on September 11, 2015 through 5 a.m. on September 14, 2015, the bridge will not open to marine traffic.

b. From 5 a.m. on September 14, 2015 through 11 p.m. on September 18, 2015, the bridge will open fully on signal upon 3 hour advance notice.

c. From 11 p.m. on September 25, 2015 through 5 a.m. on September 28, 2015, the bridge will not open for marine traffic.

d. From 5 a.m. on September 28, 2015 through 11 p.m. on October 4, 2015, the bridge will open fully on signal upon 3 hour advance notice.

The bridge will not be able to open in the event of an emergency. There is no alternate route for vessel traffic; however, vessels that can pass under the closed draws during this closure may do so at any time.

The Coast Guard will inform the users of the waterway through our Local and Broadcast Notice to Mariners of the change in operating schedule for the bridge so that vessels can arrange their transits to minimize any impact caused by the temporary deviation.

In accordance with 33 CFR 117.35(e), the drawbridge must return to its regular operating schedule immediately at the end of the effective period of this temporary deviation. This deviation from the operating regulations is authorized under 33 CFR 117.35.

Dated: August 12, 2015.
C.J. Bisignano,
Supervisory Bridge Management Specialist, First Coast Guard District.

[FR Doc. 2015-20604 Filed 8-19-15; 8:45 am]

BILLING CODE 9110-04-P